NUCLEAR REGULATORY COMMISSION

[NRC-2009-0279]

Solicitation for Public Comment on Potential Changes to the Agency's Radiation Protection Regulations

AGENCY: Nuclear Regulatory Commission.

ACTION: Solicitation of Public Comment.

SUMMARY: The U.S. Nuclear Regulatory Commission (NRC) is seeking public comment on potential changes to the NRC's current radiation protection regulations to achieve greater alignment between the regulations and the 2007 recommendations of the International Commission on Radiological Protection (ICRP) contained in ICRP Publication 103. Stakeholders and the public are encouraged to submit comments concerning potential impacts, burdens, benefits, and concerns electronically to http://www.regulations.gov.

Background

ICRP Publication 103 (December 2007) contains the latest in a series of revised ICRP recommendations for radiation protection. On December 18, 2008, the NRC staff provided a Policy Issue Notation Vote Paper (SECY-08-0197) to the Commission which presented the regulatory options of moving, or not moving, towards a greater degree of alignment of the NRC regulatory framework with ICRP Publication 103. In a Staff Requirements Memorandum (SRM) dated April 2, 2009, the Commission approved the staff's recommendation to begin engagement with stakeholders and interested parties to initiate development of the technical basis for possible revision of the NRC's radiation protection regulations, as appropriate and where scientifically justified, to achieve greater alignment with the recommendations in ICRP Publication 103.

Discussion

The Commission believes that the current NRC regulatory framework continues to provide adequate protection of health and safety of workers, the public, and the environment. From a safety regulation perspective, ICRP Publication 103 proposes measures that go beyond what the NRC believes are needed to provide adequate protection. In order to ensure that the NRC is well informed of all the benefits and burdens associated with further alignment of NRC's current radiation protection regulations with ICRP Publication 103, the NRC is soliciting input from stakeholders and interested parties on the technical and regulatory issues associated with such changes. The NRC will utilize this feedback in developing the appropriate technical basis for any proposed rulemaking.

An overview of possible changes to both material and reactor-based radiation protection regulations is provided in SECY-08-0197, which is publically available in the Agencywide Documents Access and Management System (ADAMS) under accession No. ML083360582. The SRM to SECY-08-0197 is also publically available in ADAMS under accession No. ML090920103. In addition, stakeholders and interested parties may introduce other options, issues, and information for the NRC's consideration.

In an effort to facilitate public involvement, the staff will give presentations at a number of radiation protection related conferences and meetings including the Society of Nuclear Medicine Annual Meeting (July 13-17, 2009; Toronto, Canada), Fuel Cycle Information Exchange (June 23-25, 2009), and the Health Physics Society Annual Meeting (July 12-16, 2009); In addition, a Web site dedicated to the potential changes to the NRC's radiation protection regulations is available at http://www.nrc.gov/about-nrc/regulatory/rulemaking/opt-revise.html. Please submit any comments or questions by March 31, 2010 to Regulations.gov or Reg4rp@nrc.gov.

FOR FURTHER INFORMATION CONTACT: Dr. Donald Cool, telephone (301) 415-6347, e-mail, Donald.Cool@nrc.gov or Dr. Kimyata Morgan Butler, telephone (301) 415-0733, e-mail, Kimyata.MorganButler@nrc.gov of the Office of Federal and State Materials and Environmental Management Programs, U.S. Nuclear Regulatory Commission, Washington, DC 20555-0001.

Dated at Rockville, Maryland, this 25th day of June 2009.
For the Nuclear Regulatory Commission.
Mark R. Shaffer,
Director, Division of Intergovernmental Liaison and Rulemaking, Office of Federal and State Materials and Environmental Management Programs.

[FR Doc. E9-15950 Filed 7-6-09; 8:45 am]

BILLING CODE 7590-01-P